DEPARTMENT OF THE INTERIOR

Bureau of Land Management

[NV-033-03-1232-EA-NV15]

Temporary Closure of Public Lands—Recreation Special Events: Nevada, Carson City Field Office

AGENCY: Bureau of Land Management, Interior.

ACTION: Temporary closure of affected public lands in Lyon, Storey, Churchill, Carson, Douglas, Mineral, Washoe, Nye, and Esmeralda Counties pursuant to regulation at 43 CFR 8364.1 and 43 CFR part 2930.

SUMMARY: Notice is hereby given that the Carson City Field Office announces the temporary closure of selected public lands under its administration in Lyon, Storey, Churchill, Carson, Douglas, Mineral, Washoe and Nye Counties effective March through November, 2004, subject to specific dates for recreation events. (Refer to Supplementary Information below.) By agreement with the Las Vegas and Battle Mountain Field Offices and the Tonopah Field Station, those lands affected by the Vegas to Reno OHV Race in Nye and Esmeralda Counties are included in this closure. This action is taken to provide for public and participant safety and to protect adjacent natural and cultural resources during the conduct of permitted special recreation events.

FOR FURTHER INFORMATION CONTACT: Fran Hull, Outdoor Recreation Planner, Carson City Field Office, Bureau of Land Management, 5665 Morgan Mill Road, Carson City, Nevada 89701, Telephone: (775) 885-6161.

SUPPLEMENTARY INFORMATION: This notice applies to closures on and adjacent to permitted, special events such as: Motorized Off Highway Vehicle, Mountain Bike and Horse Endurance competitive event sites and routes. Competitive events (races) are conducted along dirt roads, trails, washes, and areas approved for such use through the Special Recreation Permit application process. From March through November, 2004, the closure period is from 6:00 a.m. race day until race finish or until the event has cleared between affected check point locations; approximately 2 to 24 hour periods. The general public will be advised of each event and closure specifics via local newspapers and mailed public letters within seven (7) to thirty (30) days prior to the running of an event or if the event is cancelled. Events may be cancelled or rescheduled upon short notice. Contact the Carson City Field Office for event maps and information.

Locations most commonly used for permitted events include, but are not limited to:

1. Lemmon Valley MX Area—Washoe Co., T.21N R.19E Sec. 8.

2. Hungry Valley Off Highway Vehicle Area—Washoe Co., T.21-23N R.20E.

3. Pine Nut Mountains—Carson, Douglas & Lyon Counties: T.11-16N R.20-24E.

4. Virginia City/Jumbo Areas—Storey and Washoe Counties: T.16-17N R.20-21E.

5. Yerington/Weeks Areas—Lyon Co.: T.12-16N R.23-27E.

6. Fallon Area (Including Sand Mtn.)—Churchill Co.: T.14-18N R.27-32E.

7. Hawthorne Area—Mineral County: T.5-14N. R.31½-36E.

8. Vegas to Reno OHV Race Route: Nye, Esmeralda, Mineral, Churchill, and Lyon Counties: From Johnny to Dayton, Nevada—approximately 510 miles in the vicinity of Highway 95.

Marking and effect of closure. BLM lands to be temporarily closed to the public use include the width and length of those roads and trails identified as the race route by colorful flagging, chalk arrows in the dirt and directional arrows attached to wooden stakes. The authorized applicants or their representatives are required to post warning signs, control access to, and clearly mark the event routes during closure periods.

Public uses generally affected by a Temporary Closure include: Road and trail uses, camping, shooting of any kind of weapon including paint ball, and public land exploration.

Spectator and support vehicles may be driven on open roads only. Spectators may observe the races from specified locations as directed by event and agency officials.

Exceptions. Closure restrictions do not apply to race officials, medical/rescue, law enforcement, and BLM personnel monitoring the event.

Penalty. Any person failing to comply with the closure orders may be subject to imprisonment for not more than 12 months, or a fine in accordance with the applicable provisions of 18 U.S.C. 3571, or both.

Authority: 43 CFR 8364.1 and 43 CFR part 2930.

Elayn M. Briggs,
Acting Manager, Carson City Field Office.

[FR Doc. 04-8157 Filed 4-9-04; 8:45 am]

BILLING CODE 4310-HC-P